POSTAL REGULATORY COMMISSION

[Docket No. MC2019-3; Order No. 4856]

Mail Classification Schedule

AGENCY: Postal Regulatory Commission.

ACTION: Notice.

SUMMARY: The Commission is recognizing a recent Postal Service filing concerning an update to the maximum weight limit for Outbound Single-Piece First-Class Mail International (FCMI) Large Envelopes (Flats) in the Mail Classification Schedule. This document informs the public of the filing, invites public comment, and takes other administrative steps.

DATES: Comments are due: November 13, 2018.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Notice of Commission Action

III. Ordering Paragraphs

I. Introduction

On October 10, 2018, the Postal Service filed a notice concerning an update to the maximum weight limit for Outbound Single-Piece First-Class Mail International (FCMI) Large Envelopes (Flats), pursuant to 39 CFR 3020.111.¹ Specifically, the Postal Service intends to reduce the maximum weight limit from 64 ounces to 15.994 ounces to “allow items tendered as FCMI flats to more closely correspond to the “G” format items in the Universal Postal Union (UPU) system.” ² The Postal Service states that the proposed update is consistent with the policies and the applicable criteria of chapter 36 of 39 U.S.C. because it helps achieve the objectives of section 3622(b) and takes into account the factors of section 3622(c). Id. at 3-6.

¹ Notice of the United States Postal Service of Update to the Maximum Weight Limit for Outbound Single-Piece First-Class Mail International Large Envelopes (Flats) in the Mail Classification System, October 10, 2018 (Notice).

² Notice at 2. The Postal Service states that the proposed 15.994 ounces weight limit would approach the current Universal Postal Convention Regulation maximum weight of 500 grams (17.6 ounces) for large letter post letters (format G). Id.

II. Notice of Commission Action

Pursuant to 39 CFR 3020.111(b), the Commission establishes Docket No. MC2019-3 to consider the proposed update to the maximum weight limit for Outbound Single-Piece FCMI Large Envelope (Flats), as provided in the Notice. The Commission invites comments from interested persons on whether the proposed update is consistent with the policies and applicable criteria of chapter 36 of title 39 of the United States Code. Comments are due no later than November 13, 2018. The public portions of these filings can be accessed via the Commission's website at http://www.prc.gov.

Pursuant to 39 U.S.C. 505, the Commission appoints Richard A. Oliver to represent the interests of the general public (Public Representative) in this docket.

III. Ordering Paragraphs

It is ordered:

1. The Commission establishes Docket No. MC2019-3 to consider the proposed update to the maximum weight limit for Outbound Single-Piece First-Class Mail International Large Envelopes (Flats), as provided in the Postal Service's October 10, 2018 Notice.

2. Comments from interested persons are due by November 13, 2018.

3. Pursuant to 39 U.S.C. 505, Richard A. Oliver is appointed to serve as an officer of the Commission (Public Representative) to represent the interests of the general public in this proceeding.

4. The Commission directs the Secretary of the Commission to arrange for prompt publication of this notice in the Federal Register.

By the Commission.
Stacy L. Ruble,
Secretary.

[FR Doc. 2018-22663 Filed 10-16-18; 8:45 am]

BILLING CODE 7710-FW-P